NUCLEAR REGULATORY COMMISSION

[Docket No. 72-27; NRC-2009-0205]

Notice of Docketing of Amendment Request for Materials License SNM-2514; Pacific Gas and Electric Company; Humboldt Bay Independent Spent Fuel Storage Installation

AGENCY: Nuclear Regulatory Commission.

ACTION: Notice of Docketing of Amendment Request for Materials License SNM-2514.

FOR FURTHER INFORMATION CONTACT: Shana R. Helton, Senior Project Manager, Division of Spent Fuel Storage and Transportation, Office of Nuclear Material Safety and Safeguards, Mail Stop EBB-3D-02M, U.S. Nuclear Regulatory Commission, Washington, DC 20555-0001. Telephone: (301) 492-3284; e-mail: shana.helton@nrc.gov.

SUPPLEMENTARY INFORMATION: On April 20, 2009, Pacific Gas and Electric Company (PG&E) submitted an application to the U.S. Nuclear Regulatory Commission (NRC or the Commission), in accordance with 10 CFR part 72, requesting an amendment to Materials License SNM-2514 for the Humboldt Bay Independent Spent Fuel Storage Installation (ISFSI), located in Humboldt County, California. The license authorizes PG&E to receive, possess, store, and transfer spent nuclear fuel and associated radioactive materials resulting from the operation of the Humboldt Bay Power Plant in an ISFSI at the power plant site for a term of 20 years.

PG&E's license amendment request proposes modifying License Condition 14, to indicate that the Humboldt Bay ISFSI quality assurance (QA) requirements have been relocated from the Diablo Canyon Power Plant Part 50 QA Program to the Humboldt Bay Power Plant Part 50 QA Plan.

Pursuant to 10 CFR 72.16, the NRC has docketed the proposed Amendment No. 2 to Materials License No. SNM-2514 held by PG&E for the receipt, possession, transfer, and storage of spent fuel at the Humboldt Bay ISFSI, and is hereby publishing a notice of docketing in the Federal Register.

FOR FURTHER INFORMATION CONTACT: For further details with respect to this action, see the application dated April 20, 2009, which is available electronically at NRC's Electronic Reading Room, at: http://www.nrc.gov/reading-rm/adams.html. From this site, you can access NRC's Agencywide Document Access and Management System (ADAMS), which provides text and image files of NRC's public documents. The ADAMS accession number for the application is ML091190693. If you do not have access to ADAMS, or if there are problems in accessing the documents located in ADAMS, contact NRC's Public Document Room (PDR) Reference staff at 1-800-397-4209, 301-415-4737, or by e-mail to pdr@nrc.gov.

These documents may also be viewed electronically on the public computers located at NRC's PDR, O1-F21, One White Flint North, 11555 Rockville Pike, Rockville, MD 20852. The PDR reproduction contractor will copy documents, for a fee.

Dated at Rockville, Maryland, this 6th day of May 2009.
For the Nuclear Regulatory Commission.
Shana R. Helton,
Senior Project Manager, Licensing Branch, Division of Spent Fuel Storage and Transportation, Office of Nuclear Material Safety and Safeguards.

[FR Doc. E9-11267 Filed 5-13-09; 8:45 am]

BILLING CODE 7590-01-P